DEPARTMENT OF ENERGY

[FE Docket No. 08-01-PO]

Notice of Procedural Order Eliminating Quarterly Reporting Requirement and Amending Monthly Reporting Requirement for Natural Gas and Liquefied Natural Gas Import/Export Authorization Holders

AGENCY: Office of Fossil Energy (FE), Department of Energy (DOE).

ACTION: Notice of Procedural Order Amending Natural Gas Import and Export Orders.

SUMMARY: DOE has issued the attached Procedural Order eliminating the quarterly reporting requirement and modifying the current monthly reporting requirement for existing and future orders authorizing the import and export of natural gas and liquefied natural gas (LNG). The Procedural Order includes the background and basis for the reporting and the new monthly requirement as modified.

DATES: The first monthly report, for the reporting period January 1, 2008 through January 31, 2008, required by the Procedural Order shall be filed no later than February 29, 2008.

ADDRESSES: All monthly filings required by the Procedural Order shall be made to U.S. Department of Energy (FE-34), Office of Fossil Energy, Office of Natural Gas Regulatory Activities, P.O. Box 44375, Washington, DC 20026-4375, Attention: Ms. Yvonne Caudillo. Reports may be e-mailed to Ms. Caudillo at yvonne.caudillo@hq.doe.gov or ngreports@hq.doe.gov. Reports may be faxed to Ms. Caudillo at (202) 585-6050.

FOR FURTHER INFORMATION CONTACT: Yvonne Caudillo, U.S. Department of Energy (FE-34), Office of Fossil Energy, Office of Natural Gas Regulatory Activities, P.O. Box 44375, Washington, DC 20026-4375, (202) 586-4587, yvonne.caudillo@hq.doe.gov.

Issued in Washington, DC, on February 1, 2008.
R.F. Corbin,
Manager, Natural Gas Regulatory Activities, Office of Oil and Gas Global Security and Supply, Office of Fossil Energy.

Procedural Order Eliminating Quarterly Reporting Requirement and Amending Monthly Reporting Requirement for Natural Gas and Liquefied Natural Gas Import/Export Authorization Holders

FE Docket No. 08-01-PO

DOE/FE Order No. 2464

I. Background

FE is delegated the authority to regulate natural gas and LNG imports and exports under section 3 of the Natural Gas Act (15 U.S.C. 717b).¹ In order to carry out its delegated responsibility, FE requires those persons authorized to import or export natural gas and LNG to file reports containing basic information about the scope and nature of the import or export activity. FE has been collecting the import and export transaction information on a monthly and quarterly basis. That information is used to monitor North American natural gas trade, which in turn enables the Federal government to perform market and regulatory analyses, to improve the capability of industry and government to respond to any future energy-related supply problems, and to inform the general public regarding the international natural gas trade. Additionally, the data collected enables FE to ensure that importers and exporters are in compliance with the terms and conditions of their authorizations.

¹ This authority is delegated to the Assistant Secretary of FE pursuant to Redelegation Order No. 00.002.04C (January 30, 2007).

DOE has undertaken a Natural Gas Data Collection Initiative to improve the way it gathers and disseminates information about the U.S. natural gas trade. As a result of this initiative, FE continues to seek ways to improve and streamline its reporting process. As part of that effort, the submission of quarterly reports will no longer be required, and monthly reports will be amended to include the information and details previously collected on the quarterly reports. Monthly reports must still be filed within 30 days following the end of each calendar month indicating whether or not imports and/or exports have been made and reporting the details of all import and/or export transactions. This Procedural Order amends existing import and export authorizations listed in Appendix A to reflect such revisions. This Procedural Order also clarifies how those reports shall be filed with DOE. This monthly reporting requirement will also be made a condition in all future natural gas and LNG import and export authorizations. Requiring the submission of import and export data on a monthly basis only will improve the accuracy, timeliness, and publication of the data collected, and will simplify the obligation and reduce the burden on authorization holders who are now required to provide two different data reports on two different reporting schedules.

II. Comments

On August 10, 2006, DOE's Energy Information Administration (EIA) published a notice in the Federal Register (71 FR 45800) soliciting comments on the proposed extension of Form FE-746R, “The Natural Gas Import and Export Authorization Application and Monthly Reports.”, which included the elimination of the associated quarterly reporting requirement. Three parties filed timely comments and one party filed a late comment. The three timely parties supported the changes discussed above. In addition, these parties made suggestions for modifying the reports. The suggested changes were to: (1) Eliminate the requirement to report end-user data, and (2) eliminate the requirement to report special price clauses. DOE had already considered and elected to make those changes prior to the suggestions submitted in the comments. One of the commenters suggested that FE require the volumes to be reported in Million British Thermal Units (MMBtu) rather than Thousand Cubic Feet (Mcf) to be consistent with the way the prices for those volumes are being reported. DOE disagreed with this suggestion, because, among other reasons, volumetric reporting of transactions in Mcf is a standard measure within the U.S. government and the natural gas industry. The late commenter expressed concern about confidentiality issues and stated that monthly pricing information should be delayed for three months and aggregated to preserve confidentiality. All reports become public information once the reports are filed with FE. However, DOE will continue to publish the data on a quarterly basis and not increase the frequency of the publication of the data.

On January 29, 2007, EIA published a notice in the Federal Register (72 FR 3997) indicating the submission to the Office of Management and Budget (OMB) of the final Form FE-746R for review and a three-year extension under section 3507(h)(1) of the Paperwork Reduction Act of 1995 (44 U.S.C. 3501 et seq.) and requesting comments by February 28, 2007. No comments were received. On May 18, 2007, OMB approved the collection of natural gas and LNG import and export data pursuant to Form FE-746R until May 31, 2010.

III. Order

In accordance with DOE's Natural Gas Data Collection Initiative and pursuant to section 3 of the Natural Gas Act, it is hereby ordered that:

1. The quarterly reporting requirement in all natural gas and LNG import and export authorizations listed in Appendix A attached to this Order is eliminated as of January 1, 2008.

2. The monthly reporting requirement in all natural gas and LNG import and export authorizations listed in Appendix A attached to this Order, including how those reports shall be filed with DOE, is amended as follows:

All authorized importers and exporters shall file a report with the Office of Natural Gas Regulatory Activities within 30 days following the last day of each calendar month indicating whether imports and/or exports have been made. Monthly reports shall be filed whether or not initial deliveries have begun. If imports and/or exports have not occurred, a report of “no activity” for that month must be filed. If imports and/or exports have occurred, the report must give the following details:

(A) For natural gas imports and/or exports, the report shall include:

(1) for imports, the country of origin,

(2) for exports, the country of destination,

(3) the point(s) of entry or exit,

(4) the volume in thousand cubic feet (Mcf),

(5) the average purchase price of gas per million British thermal units (MMBtu) at the international border,

(6) the name of the supplier(s),

(7) the name of the U.S. transporter(s),

(8) the estimated or actual duration of the supply agreement(s), and

(9) for imports, the geographic market(s) served (list State(s), U.S. Census Region(s), or general U.S. geographic area(s));

(B) For LNG imports by vessel, the report must include:

(1) the name of the U.S. receiving terminal,

(2) the name of the LNG tanker,

(3) the date of arrival at the U.S. receiving terminal,

(4) the country of origin,

(5) the name of the supplier/seller,

(6) the volume in Mcf,

(7) the landed price per MMBtu at the point of import,

(8) the duration of the supply agreement (indicate spot purchases),

(9) the name(s) of the purchaser(s), and

(10) the geographic market served (list State(s), U.S. Census Region(s), or general U.S. geographic area(s));

(C) For LNG exports by vessel, the report must include:

(1) the name of the U.S. export terminal,

(2) the name of the LNG tanker,

(3) the date of departure from the U.S. export terminal,

(4) the country of destination,

(5) the name of the supplier/seller,

(6) the volume in Mcf,

(7) the delivered price per MMBtu,

(8) the duration of the supply agreement (indicate spot sales), and

(9) the name(s) of the purchaser(s); and

(D) For LNG imports and/or exports by truck, the report must include:

(1) the name of the U.S. receiving or departure facility,

(2) the country of origin or destination,

(3) the point(s) of entry or exit,

(4) the name(s) of the supplier(s)/seller(s),

(5) the name(s) of the LNG transporter(s),

(6) the volume in Mcf,

(7) for imports, the landed price and for exports, the delivered price per MMBtu at the point of entry or exit,

(8) the duration of the supply agreement,

(9) for imports, the geographic market served (list State(s), U.S. Census Region(s), or general U.S. geographic area(s)).

The first monthly report for the reporting period January 1, 2008, through January 31, 2008, required by this Procedural Order shall be filed no later than February 29, 2008. All monthly report filings shall be made to U.S. Department of Energy (FE-34), Office of Fossil Energy, Office of Natural Gas Regulatory Activities, P.O. Box 44375, Washington, DC 20026-4375 Attention: Ms. Yvonne Caudillo. Alternatively, reports may be e-mailed to Ms. Caudillo at yvonne.caudillo@hq.doe.gov or ngreports@hq.doe.gov, or may be faxed to Ms. Caudillo at (202) 585-6050.

Issued in Washington, DC, on February 1, 2008.
R.F. Corbin,
Manager, Natural Gas Regulatory Activities, Office of Oil and Gas Global Security and Supply, Office of Fossil Energy.

Appendix A
Dated issued | Docket No. | Company | Order No.
11/20/92 | 92-70-NG | Saranac Power Partners, L.P | 725
03/05/93 | 93-09-NG | Portal Municipal Gas | 780
02/16/93 | 93-15-NG | TM Star Fuel Company | 771
03/28/94 | 94-07-NG | Brooklyn Navy Yard Cogeneration Partners, L.P | 929; 929A; 929B
05/02/94 | 94-31-NG | Chevron Natural Gas Services | 938
08/01/94 | 94-49-NG | Hermiston Generating Company, L.P | 964
08/31/94 | 95-51-NG | United States General Services Administration | 972
04/19/95 | 94-91-LNG | EcoElectrica, L.P | 1042
10/25/96 | 95-64-NG | Pittsfield Company, L.P | 1088; 1088-A
09/28/95 | 95-65-NG | Pittsfield Generating Company, L.P | 1089; 1089-A
11/07/95 | 95-100-NG | Distrigas Corporation | 1115
01/03/96 | 95-106-NG | Cascade Natural Gas Corporation | 1141
01/02/96 | 95-111-NG | Vermont Gas Systems, Inc | 1139
06/26/96 | 96-39-NG | North Canadian Marketing Corporation | 1182
09/11/96 | 96-54-NG | Bear Paw Energy, LLC | 1195; 1195-A
09/16/96 | 96-60-NG | ProGas U.S.A, Inc | 1197; 1197-A; 1197-B
09/16/96 | 96-61-NG | ProGas U.S.A., Inc | 1198; 1198-A
06/20/00 04/01/04 | 96-99-NG | ConocoPhillips | 261F 1473
05/06/97 | 97-35-NG | United States Gypsum Company | 1272
11/06/97 | 97-87-NG | Progas U.S.A., Inc | 1329
11/06/97 | 97-89-NG | Progas U.S.A., Inc | 1330; 1330-A
01/28/98 | 98-05-NG | Tenaska Washington Partners, L.P | 1354
02/10/98 | 98-08-NG | Vermont Gas Systems, Inc | 1361
05/08/98 | 98-20-NG | TransCanada Energy Ltd | 1382
05/20/98 | 98-30-NG | Rock-Tenn Company, Mill Division, Inc | 1385
11/02/98 | 98-85-NG | Husky Gas Marketing Inc | 1432
05/05/99 | 99-26-NG | ProGas U.S.A., Inc | 1479
05/20/99 | 99-27-NG | City of Duluth, Minnesota | 1484
04/10/07 | 99-110-LNG | Phillips Alaska Natural Gas Corp/Marathon Oil Co | 1580
03/08/00 | 00-10-NG | RDO Foods Company | 1575
05/07/01 | 01-15-NG | Energia Azteca X, S. de R.I. de C.V | 1678
08/01/01 | 01-38-NG | Sierra Production Company | 1703
04/09/02 | 02-15-NG | Midland Cogeneration Venture Ltd. Partnership | 1765
07/15/03 | 03-30-NG | TransAlta Chihuahua S.A. de C.V. | 1877
12/30/03 | 03-76-LNG | BG LNG Services, LLC | 1932
04/19/04 | 04-39-LNG | BG LNG Services LLC | 1977; 1977-A; 1977-B
11/16/04 | 04-106-NG | Cascade Natural Gas Corporation | 2045
11/16/04 | 04-107-NG | Cascade Natural Gas Corporation | 2046
12/06/04 | 04-121-NG | Cascade Natural Gas Corporation | 2051
06/24/05 | 05-24-NG | Ocean State Power II | 2104
06/24/05 | 05-25-NG | Ocean State Power I | 2103
06/24/05 | 05-27-NG | Ocean State Power II | 2105
03/20/06 | 05-48-NG | Selkirk Cogen Partners, L.P | 2186
03/20/06 | 05-49-NG | Selkirk Cogen Partners, L.P | 2187
03/20/06 | 05-50-NG | Selkirk Cogen Partners, L.P | 2188
12/28/05 | 05-76-NG | TransCanada Pipelines Limited | 2167
12/28/05 | 05-78-NG | TransCanada Pipelines Limited | 2168
12/28/05 | 05-79-NG | TransCanada Pipelines Limited | 2169
03/20/06 | 05-104-NG | Puget Sound Energy, Inc | 2179
03/20/06 | 05-105-NG | Puget Sound Energy, Inc | 2180
03/20/06 | 05-106-NG | Puget Sound Energy, Inc | 2181
03/20/06 | 05-107-NG | Puget Sound Energy, Inc | 2182
03/20/06 | 05-108-NG | Puget Sound Energy | 2183
02/24/06 | 05-111-NG | Applied LNG Technologies USA, LLC | 2177
12/28/05 | 05-112-NG | DTE | 2166
05/02/06 | 05-114-NG | BG LNG Services, LLC | 2199
04/25/06 | 05-123-NG | Puget Sound Energy, Inc | 2196
11/17/06 | 06-01-LNG | BG LNG Services, LLC | 2283
11/17/06 | 06-02-LNG | BG LNG Services, LLC | 2284
11/17/06 | 06-03-LNG | BG LNG Services, LLC | 2285
11/17/06 | 06-04-LNG | BG LNG Services, LLC | 2286
11/17/06 | 06-05-LNG | BG LNG Services, LLC | 2287
05/22/06 | 06-06-LNG | BG LNG Services, LLC | 2288
03/20/06 | 06-10-NG | Quicksilver Resources, Inc | 2201
03/20/06 | 06-11-NG | J.P. Morgan Ventures Energy Corporation | 2185
03/20/06 | 06-12-NG | JP Morgan Chase Bank, N.A | 2184
05/22/06 | 06-13-NG | Kimball Energy Corporation | 2202
04/25/06 | 06-15-NG | OGE Energy Resources, Inc | 2189
05/22/06 | 06-16-NG | Burlington Resources Canada Marketing Ltd | 2217
05/22/06 | 06-17-NG | Shell NA LNG LLC | 2203
07/21/06 | 06-18-NG | Puget Sound Energy, Inc | 2230
07/21/06 | 06-19-NG | Puget Sound Energy, Inc | 2231
04/25/06 | 06-20-NG | Morgan Stanley Capital Group Inc | 2192
05/22/06 | 06-21-NG | NJR Energy Services Company | 2204
04/25/06 | 06-22-NG | BG LNG Services, LLC | 2193
05/22/06 | 06-23-NG | Northwest Natural Gas Company | 2205
05/22/06 | 06-24-NG | PERC Canada, Inc | 2206
04/25/06 | 06-26-NG | Indeck-Yerkes Limited Partnership | 2194
05/11/06 | 06-27-NG | United Energy Trading Canada, ULC | 2198
05/22/06 | 06-28-NG | eCorp Energy Marketing, LLC | 2208
04/25/06 | 06-29-NG | Michigan Consolidated Gas Company | 2191
05/22/06 | 06-30-NG | Anadarko Energy Services Company | 2209
04/25/06 | 06-31-NG | Sequent Energy Management, LP | 2190
05/22/06 | 06-32-NG | Devon Canada Marketing Corporation | 2210
05/22/06 | 06-34-NG | Gasoducto Rosarito, S. de R.I de C.V | 2211
05/22/06 | 06-35-NG | Exxonmobile Gas & Power Mktg., a div of Exxon Corporation | 2212; 2212-A
05/22/06 | 06-36-NG | National Fuel Resources, Inc | 2213
05/22/06 | 06-37-NG | Lehman Brothers Commodity Services, Inc | 2214
05/22/06 | 06-38-NG | West Texas Gas, Inc | 2215
05/25/06 | 06-40-NG | Central Lomas de Real, S.A. de C.V | 2219
05/22/06 | 06-41-NG | Coral Energy Resources, L.P | 2221
05/22/06 | 06-42-NG | Energy Source Canada, Inc | 2220
05/22/06 | 06-43-NG | St. Lawrence Gas Company | 2222
05/26/06 | 06-44-NG | New York State Electric & Gas Corporation | 2223
06/09/06 | 06-45-NG | Sacramento Municipal Utility District | 2224
07/21/06 | 06-46-NG | Suez LNG Services NA LLC | 2225
07/21/06 | 06-47-NG | Moneta Capital Partners Ltd | 2226
07/27/06 | 06-48-NG | Calpine Energy Services, L.P | 2236
08/08/06 | 06-63-NG | Power City Partners, L.P | 2240
08/08/06 | 06-64-NG | Marathon Oil Company | 2241
08/08/06 | 06-65-NG | IGI Resources, Inc | 2242
08/08/06 | 06-66-NG | BP Energy Company | 2243
08/17/06 | 06-67-NG | Alcoa Inc | 2245
08/28/06 | 06-69-NG | Pioneer Natural Resources Canada Inc | 2252
08/28/06 | 06-70-NG | Constellation Energy Commodities Group, Inc | 2251
08/28/06 | 06-71-NG | Hess Corporation | 2254
08/28/06 | 06-72-NG | Select Energy New York d/b/a Hess Energy New York Corporation | 2248
08/28/06 | 06-73-NG | Union Gas Limited | 2247
08/28/06 | 06-74-NG | Central Valle Hermoso, S.A. de C.V | 2253
08/28/06 | 06-75-NG | Seminole Canada Gas Company** | 2249; 2249-A
11/17/06 | 06-76-NG | InterGlobal Energy and Marine Services Inc | 2289
09/25/06 | 06-77-NG | Alliance Canada Marketing L.P | 2255
09/29/06 | 06-78-NG | Premstar Energy Canada L.P | 2259
10/27/06 | 06-79-NG | Energy Natural Gas Corporation | 2265
09/25/06 | 06-80-NG | Macquarie Cook Energy, LLC | 2256
09/25/06 | 06-81-NG | Merrill Lynch Commodities, Inc | 2257
09/29/06 | 06-82-NG | BP Canada Energy Marketing Corp | 2260
07/21/06 | 06-52-NG | Southwest Energy, LP | 2228
09/29/06 | 06-84-NG | Marathon LNG Marketing LLC | 2258
11/17/06 | 06-85-NG | UBS AG, London Branch | 2290
10/16/06 | 06-86-NG | Regent Resources Ltd | 2262
10/16/06 | 06-87-NG | Bear Energy LP | 2263
10/16/06 | 06-88-NG | TransCanada Energy Ltd | 2264
12/07/06 | 06-89-NG | Selkirk Cogen Partners, L.P | 2306
10/27/06 | 06-90-NG | Boise White Paper, L.L.C | 2266
12/21/06 | 06-91-NG | Nexen Marketing U.S.A. Inc | 2314
11/17/06 | 06-92-NG | Pemex Gas Y Petroquimica Basica | 2291
11/17/06 | 06-93-NG | Texas Eastern Transmission | 2292
10/31/06 | 06-94-NG | Duke Energy Trading & Marketing, L.L.C | 2302
10/27/06 | 06-95-NG | Cannat Energy Inc | 2276
10/27/06 | 06-96-LNG | Fortuna (US) L.P | 2277
11/17/06 | 06-97-LNG | Verboil Energy, Inc | 2293
12/07/06 | 06-98-NG | City of Glendale Water and Power | 2307
10/05/06 | 06-99-NG | Distrigas LLC | 2294
12/21/06 | 06-100-NG | Boss Energy, Ltd | 2315
10/28/06 | 06-101-NG | Connecticut Natural Gas Corporation | 2278
10/27/06 | 06-102-NG | Bay State Gas Company | 2267
10/27/06 | 06-103-NG | Northern Utilities, Inc | 2268
10/27/06 | 06-104-NG | National Fuel Gas Distribution Corporation | 2269
10/27/06 | 06-105-NG | The Brooklyn Union Gas Company (d/b/a KeySpan Energy Delivery New York) | 2279
10/27/06 | 06-106-NG | Boston Gas Company (d/b/a KeySpan Energy Deliver New England) | 2270
10/27/06 | 06-107-NG | Essex Gas Company (d/b/a KeySpan Energy Delivery New England) | 2280
11/22/06 | 06-121-NG | FB Energy Canada Corp | 2303
11/22/06 | 06-122-NG | Fortis Energy Marketing & Trading, GP | 2304
11/22/06 | 06-123-NG | Montana-Dakota Utilities Co | 2300
01/16/07 | 06-124-NG | San Diego Gas & Electric Company | 2323
11/22/06 | 06-125-NG | Termoelectrica de Mexicali, S. de R.L. de C.V | 2301
12/21/06 | 06-127-NG | H.Q. Energy Services (U.S.) Inc | 2316
12/07/06 | 06-128-NG | BP Energy Company | 2310
12/01/06 | 06-129-LNG | Gazprom Marketing & Trading USA, Inc | 2305
01/19/07 | 06-130-NG | San Diego Gas & Electric Company | 2324
12/21/06 | 06-131-NG | Coral Energy Northwest, LLC | 2317
12/07/06 | 06-132-NG | Alberta Northeast Gas, Limited | 2311
12/07/06 | 06-133-NG | Chehalis Power Generating, Limited Liability Corporation | 2312
12/28/06 | 06-134-NG | Citadel Energy Products LLC | 2319
12/28/06 | 06-135-NG | Powerex Corp | 2320
12/28/06 | 06-136-NG | Vitol Inc | 2321
12/21/06 | 06-137-NG | NorthWestern Corporation d/b/a NorthWestern Energy | 2318
01/19/07 | 06-138-NG | Albitibi-Consolidated Company of Canada | 2325
01/11/07 | 07-01-NG | El Paso Marketing, L.P | 2322
01/29/07 | 07-03-NG | Cheniere Marketing, Inc | 2327
01/19/07 | 07-04-NG | Petrocom Ventures, Ltd | 2326
03/01/07 | 07-05-NG | Sequent Energy Canada Corp | 2330
03/08/07 | 07-06-NG | Total Gas & Power North America, Inc | 2331
02/07/07 | 07-07-NG | Cargill, Incorporated | 2328
02/02/07 | 07-08-NG | Sprague Energy Corp | 2329
03/08/07 | 07-09-NG | Petro-Canada Hydrocarbons, Inc | 2332
04/06/07 | 07-10-NG | Suez Energy Marketing NA, Inc | 2343
03/29/07 | 07-11-NG | Hunt Oil Company of Canada, Inc | 2336
03/29/07 | 07-12-NG | Nitogo Management, Inc | 2337
03/29/07 | 07-13-NG | Eagle Energy Partners I, L.P | 2338
03/15/07 | 07-14-NG | Integrys Energy Services of Canada Corp | 2333
03/15/07 | 07-15-NG | Integrys Energy Services, Inc | 2334
03/23/07 | 07-16-NG | Citigroup Energy Canada ULC | 2335
03/29/07 | 07-17-NG | ProGas USA, Inc | 2339
03/29/07 | 07-18-NG | Ontario Energy Savings L.P | 2340
03/29/07 | 07-20-NG | Terasen Gas Inc | 2341
04/03/07 | 07-21-NG | St. Lawrence Gas Company, Inc | 2342
05/14/07 | 07-22-NG | EnergyNorth Natural Gas, Inc | 2351
05/14/07 | 07-23-NG | Boston Gas Company | 2352
05/14/07 | 07-24-NG | Brooklyn Union Gas Company | 2353
05/14/07 | 07-25-NG | Keyspan Gas East Corporation | 2354
05/14/07 | 07-26-NG | Essex Gas Company | 2355
04/24/07 | 07-28-NG | Merrill Lynch Commodities, Inc | 2344
05/30/07 | 07-29-NG | Statoil Natural Gas LLC | 2356
05/08/07 | 07-30-NG | United States Steel Corporation | 2345
05/08/07 | 07-31-NG | EnCana Marketing (USA) Inc | 2346
05/08/07 | 07-32-NG | American Gas Supply, LP | 2347
05/08/07 | 07-33-NG | LNG Partners, LLC | 2348
05/08/07 | 07-34-NG | Mexicana de Cobre, S.A. de C.V | 2349
05/08/07 | 07-35-NG | BP West Coast Products, LLC | 2350
05/30/07 | 07-36-NG | Excelerate Energy Gas Marketing, L.L.C | 2357
06/14/07 | 07-37-NG | Pasadena Water and Power | 2360
06/14/07 | 07-38-NG | ECOGAS Mexico | 2361
07/09/07 | 07-40-NG | BG Energy Merchants, LLC | 2376
07/09/07 | 07-41-NG | Cascade Natural Gas Corporation | 2377
05/30/07 | 07-42-NG | KeySpan-Ravenswood, LLC | 2358
06/22/07 | 07-43-NG | PPM Energy, Inc | 2370
06/18/07 | 07-44-NG | CHI Engineering Services, Inc | 2362
07/09/07 | 07-45-NG | Apache Corporation | 2378
06/18/07 | 07-46-NG | Sithe/Independence Power Partners, L.P | 2363
06/18/07 | 07-47-NG | Dynegy Power Marketing, Inc. | 2364
06/18/07 | 07-48-NG | Transalta Energy Marketing (U.S.) Inc | 2365
06/19/07 | 07-49-NG | Chevron U.S.A. Inc | 2366
06/22/07 | 07-50-NG | Sumas Cogeneration Company, L.P | 2371
07/26/07 | 07-51-NG | Cambridge Energy, LLC | 2382; 2382-A
06/22/07 | 07-52-NG | CIMA Energy, Ltd | 2372
06/22/07 | 07-53-NG | ONEOK Energy Services Company | 2373
06/19/07 | 07-54-NG | Masefield Natural Gas, Inc | 2367
06/19/07 | 07-55-NG | Altagas Marketing (U.S.) Inc | 2368
06/22/07 | 07-56-NG | Constellation NewEnergy Gas Division, LLC | 2374
07/17/07 | 07-57-NG | Pacific Summit Energy LLC | 2379
06/19/07 | 07-58-NG | ConocoPhillips Energy Marketing Corp | 2369
07/24/07 | 07-60-NG | Pan-Alberta Gas (U.S.) Inc | 2380
06/24/07 | 07-61-NG | Louis Dreyfus Energy Canada LP | 2385
07/24/07 | 07-62-NG | Emera Energy Services | 2381
07/31/07 | 07-63-NG | Oxy Energy Canada, Inc. f/k/a Oxy Energy Canada LLC | 2386
07/26/07 | 07-65-NG | Southern California Gas Company | 2384
07/31/07 | 07-66-NG | Idaho Power Company | 2387
08/09/07 | 07-67-NG | Gibson Energy Marketing Ltd | 2388
08/16/07 | 07-68-NG | Husky Gas Marketing Inc | 2389
08/30/07 | 07-69-NG | FPL Energy Power Marketing, Inc | 2390
09/07/07 | 07-70-NG | Greenfield Energy Centre LP | 2396
08/30/07 | 07-71-NG | Canada Imperial Oil Limited | 2391
08/30/07 | 07-72-NG | Murphy Gas Gathering, Inc | 2392
08/30/07 | 07-73-NG | ConocoPhillips Company | 2393
08/30/07 | 07-74-LNG | ConocoPhillips Company | 2394
08/30/07 | 07-75-NG | Wisconsin Public Service Corporation | 2395
09/07/07 | 07-76-NG | Michigan Consolidated Gas Company | 2397
09/11/07 | 07-77-NG | Public Utility District No. 1 of Clark County, Washington | 2398
09/11/07 | 07-78-NG | Occidental Energy Marketing, Inc | 2399
09/11/07 | 07-79-NG | Pacific Gas & Electric Company | 2400
09/11/07 | 07-80-NG | Enterprise Products Operating L.P | 2401
09/11/07 | 07-81-NG | Tenaska Marketing Ventures | 2402
09/21/07 | 07-82-NG | Yankee Gas Services Company | 2403
09/26/07 | 07-83-NG | Northeast Gas Markets LLC | 2407
09/26/07 | 07-84-NG | Tristar Producer Services of Texas, L.P | 2408
09/21/07 | 07-85-NG | Reef Ventures LP | 2404
09/26/07 | 07-86-NG | Transcanada Pipelines Limited | 2409
09/26/07 | 07-87-NG | Direct Energy Marketing Limited | 2406
09/21/07 | 07-88-NG | Direct Energy Marketing Inc | 2405
09/26/07 | 07-89-NG | Portland General Electric Company | 2410
09/26/07 | 07-90-NG | Energetix, Inc | 2411
09/26/07 | 07-91-NG | Rochester Gas & Electric Corporation | 2412
09/26/07 | 07-92-NG | Weyerhaeuser Company | 2413
10/31/07 | 07-93-NG | Consolidated Edison Company of New York, Inc | 2429
10/31/07 | 07-94-NG | Keyspan Gas East Corporation | 2430
10/31/07 | 07-95-NG | New York State Electric & Gas Corporation | 2431
10/31/07 | 07-96-NG | The Brooklyn Union Gas Company | 2432
10/31/07 | 07-97-NG | Central Hudson Gas & Electric Corporation | 2433
10/31/07 | 07-98-NG | Central Hudson Gas & Electric Corporation | 2439
10/31/07 | 07-99-NG | The Narragansett Electric Company | 2434
10/31/07 | 07-100-NG | New York State Electric & Gas Corporation | 2435
10/31/07 | 07-101-NG | Keyspan Gas East Corporation | 2436
10/31/07 | 07-102-NG | Consolidated Edison Company of New York, Inc | 2437
10/31/07 | 07-103-NG | The Brooklyn Union Gas Company | 2438
10/10/07 | 07-104-NG | Kinetic LNG | 2414
10/18/07 | 07-105-NG | Enbridge Gas Services (U.S.) Inc | 2418
10/25/07 | 07-106-NG | NewPage Corporation | 2427
10/18/07 | 07-107-NG | United States Gypsum Company | 2419
10/18/07 | 07-108-NG | Middleton Energy Management Ltd | 2420
10/10/07 | 07-109-NG | Dynegy Marketing and Trade | 2415
10/23/07 | 07-110-NG | The Royal Bank of Scotland plc | 2424
10/10/07 | 07-111-NG | Maritimes NG Supply Limited Partnership | 2416
10/18/07 | 07-112-NG | JD Irving, Limited | 2421
10/18/07 | 07-113-NG | Luminant Energy Company LLC | 2422
10/10/07 | 07-114-NG | NYSEG Solutions, Inc | 2417
10/29/07 | 07-116-NG | Suncor Energy Marketing Inc | 2428
10/22/07 | 07-117-NG | Consolidated Edison Company of New York, Inc | 2423; 2423-A
10/24/07 | 07-118-NG | Sempra LNG Marketing Corp | 2426
11/06/07 | 07-119-NG | Vista Corporation | 2443
10/31/07 | 07-120-NG | National Fuel Marketing Company, LLC | 2440
11/01/07 | 07-121-NG | ENERGY International Corporation | 2441
11/27/07 | 07-123-NG | Sempra Energy Trading LLC | 2445
11/27/07 | 07-125-NG | Vermont Gas Systems, Inc | 2446
12/05/07 | 07-126-NG | Irving Oil Terminals Inc | 2448
12/12/07 | 07-127-NG | Enbridge Gas Distribution Inc | 2450
11/29/07 | 07-128-NG | Sierra Pacific Power Company | 2447
12/19/07 | 07-129-NG | DTE Energy Trading, Inc | 2453
12/12/07 | 07-131-NG | Cambridge Energy LLC | 2451
12/11/07 | 07-132-NG | Southern California Gas Company | 2449
11/16/89 | 87-68-LNG | Yukon Pacific Company, L.P | 350; 350-A;
08/04/92 | 92-35-LNG | Yukon Pacific Company, L.P | 350-B
11/16/93 | 93-110-NG | IGI Resources, Inc | 876
05/17/94 | 94-14-LNG | Distrigas of Massachusetts Corporation | 950
09/16/97 | 97-61-NG | Public Service Company of New Mexico | 1299
06/22/98 | 98-41-NG | AG-Energy, L.P | 1390
05/16/00 | 00-32-NG | OGE Energy Resources, Inc | 1592
10/16/01 | 01-54-LNG | Small Ventures U.S.A., LLC | 1718
10/30/01 | 01-61-NG | Nova Scotia Power Inc | 1728
10/24/07 | 07-115-NG | Devon Canada Marketing Corporation | 2425
11/08/07 | 07-124-NG | Puget Sound Energy, Inc | 2444
12/17/07 | 07-130-NG | Panhandle Pipe Line Co | 2452
12/20/07 | 07-133-NG | J.P. Morgan Ventures Energy Corporation | 2454
12/20/07 | 07-134-NG | JP Morgan Chase Bank, N.A | 2455
01/15/08 | 08-01-NG | Brookfield Energy Marketing Inc | 2456
01/15/08 | 07-136-LNG | Freeport LNG Development, L.P | 2457
01/16/08 | 07-135-LNG | Applied LNG Technologies USA, L.L.C | 2458
08/08/06 | 06-62-LNG | Alea Trading LLC | 2239
10/27/06 | 06-108-NG | Colonial Gas Company | 2271
12/07/06 | 06-118-NG | Arc Resources Ltd | 2308
07/09/07 | 07-41-NG | Cascade Natural Gas Corp | 2377
12/06/04 | 04-121-NG | Cascade Natural Gas Corp | 2051
11/16/04 | 04-107-NG | Cascade Natural Gas Corp | 2046
11/16/04 | 04-106-NG | Cascade Natural Gas Corp | 2045
01/03/96 | 95-106-NG | Cascade Natural Gas Corp | 1141
11/06/07 | 07-119-NG | Avista Corporation | 2443
09/21/07 | 07-88-NG | Direct Energy Marketing Inc | 2405
09/26/07 | 07-87-NG | Direct Energy Marketing Inc | 2406
08/08/06 | 06-60-NG | EPCO Energy Marketing (US) Inc | 2238
10/27/06 | 06-79-NG | Empire Natural Gas Corporation | 2265
11/22/06 | 06-114-NG | Energia de Baja California, S. de R.L. de C.V | 2296
05/07/01 | 01-15-NG | Energia Azteca X, S. de R.I. de C.V | 1678
09/26/07 | 07-89-NG | Portland General Electric Company | 2410
08/31/94 | 94-51-NG | United States General Services Administration | 972
12/14/06 | 06-115-NG | JM and RAL Energy Inc | 2313
06/09/06 | 06-56-NG | LNGJ USA Inc | 2234
07/21/06 | 06-51-NG | Minnesota Energy Resources Corporation | 2227
11/22/06 | 06-113-NG | Niagara Mohawk Power Corporation | 2295
08/18/06 | 06-61-NG | Phibro LLC | 2246
10/27/06 | 06-110-NG | Southern Connecticut Gas Company | 2273
08/08/06 | 06-50-NG | Summitt Energy Management | 2237
07/25/06 | 06-55-NG | Virginia Power Energy Marketing, Inc | 2233
10/27/06 | 06-53-NG | Consolidated Edison Company of New York, Inc | 2282
07/25/06 | 06-57-NG | Chevron U.S.A. Inc | 2235
08/28/06 | 06-59-NG | Concord Energy LLC | 2250
10/27/06 | 06-122-NG | Central Hudson Gas & Electric Corporation | 2275
10/27/06 | 06-109-NG | EnergyNorth Natural Gas, Inc | 2272
10/27/06 | 06-111-NG | KeySpan Gas East Corporation | 2274
10/27/06 | 06-119-NG | The Narragansett Electric Company | 2281
11/22/06 | 06-120-NG | SEMCO Energy Gas Company | 2299
06/14/07 | 07-27-NG | Sempra Energy Trading Corporation | 2359
11/01/07 | 07-122-NG | Ominex Canada, Inc | 2442
01/29/08 | 08-02-LNG | BG LNG Services, LLC | 2459
01/29/08 | 08-03-NG | SemCanada Energy | 2460
01/29/08 | 08-04-NG | Central Lomas de Real, S.A. de C.V | 2461
01/29/08 | 08-06-NG | Gasoducto Rosarito, S. De. R.L. de C.V | 2462
01/30/08 | 08-05-NG | Energy Source Canada Inc | 2463

[FR Doc. E8-2147 Filed 2-5-08; 8:45 am]

BILLING CODE 6450-01-P